DEPARTMENT OF COMMERCE

Foreign-Trade Zones Board

[Docket 36-2001]

Proposed Foreign-Trade Zone—Washington County, MD; Application and Public Hearing

An application has been submitted to the Foreign-Trade Zones (FTZ) Board (the Board) by the Board of County Commissioners of Washington County, Maryland, to establish a general-purpose foreign-trade zone at sites in Washington County, Maryland, adjacent to the Baltimore Customs port of entry. The application was submitted pursuant to the provisions of the FTZ Act, as amended (19 U.S.C. 81a-81u), and the regulations of the Board (15 CFR part 400). It was formally filed on August 31, 2001. The applicant is authorized to make the proposal under Article 23, Section 467 of the Annotated Code of Maryland.

The proposed zone would be the third general-purpose zone in the Baltimore Customs port of entry area. The existing zones are FTZ 73 in Baltimore (Grantee: Maryland Department of Transportation/Maryland Aviation Administration, Board Order 180, 46 FR 58730, 12/3/81); and, FTZ 74 in Baltimore (Grantee: Baltimore Development Corporation, on behalf of the City of Baltimore, Maryland, Board Order 183, 47 FR 5737, 2/8/82).

The proposed new zone would consist of 7 sites in Washington County: Site 1 (276 acres)—Lakeside Corporate Center (formerly, Ft. Ritchie Military Reservation, owned by the PenMar Development Corporation), 200 Castle Drive, Cascade; Site 2 (443 acres)—387 acres within the 600-acre Hagerstown Regional Airport complex and 56 acres within the adjacent Bowman Airpark (owned by Washington County and the Bowman Group Properties), 18434 Showalter Road, Hagerstown; Site 3 (81 acres)—Hub Industrial Park (owned by the Dahbura Family Limited Partnership), 18223 Shawley Drive, Maugansville; Site 4 (722 acres)—Hunter's Green/Hopewell Valley industrial complex (owned by the Bowman Group Properties and by Tiger Development, Inc.), south of the intersection of Hopewell Road and Halfway Boulevard, Hagerstown; Site 5 (43 acres)—City of Hagerstown Industrial Park (owned by the City) located on the east side of Frederick Street, Hagerstown; Site 6 (172 acres)—Interstate Industrial Park complex (owned by the Bowman Group Properties), 10228 Governor Lane Boulevard, Williamsport; and, Site 7 (129 acres)—Mellott Enterprises industrial complex (owned by Mellott Enterprises), Resley Street, approximately one mile north of Maryland Avenue, Hancock. Sites 2, 4, 5 and 7 are located in State-designated Enterprise Zones.

The application indicates a need for foreign-trade zone services in the Washington County area. Several firms have indicated an interest in using zone procedures for warehousing/distribution activities. Specific manufacturing approvals are not being sought at this time. Requests would be made to the Board on a case-by-case basis.

In accordance with the Board's regulations, a member of the FTZ Staff has been designated examiner to investigate the application and report to the Board.

As part of the investigation, the Commerce examiner will hold a public hearing on October 17, 2001, at 10:00 a.m., Board of County Commissioners Hearing Room, 2nd Floor, 100 West Washington Street, Hagerstown, Maryland.

Public comment on the application is invited from interested parties. Submissions (original and 3 copies) shall be addressed to the Board's Executive Secretary at the address below. The closing period for their receipt is November 6, 2001. Rebuttal comments in response to material submitted during the foregoing period may be submitted during the subsequent 15-day period (to November 21, 2001).

A copy of the application and accompanying exhibits will be available during this time for public inspection at the following locations:

Office of the Washington County Administrator, Washington County Administration Building, 100 West Washington Street, Room 226, Hagerstown, MD 21740-4727

Office of the Executive Secretary, Foreign-Trade Zones Board, U.S. Department of Commerce, FCB—Suite 4100W, 1401 Constitution Avenue, NW., Washington, DC 20230

Dated: August 31, 2001.
Dennis Puccinelli,
Executive Secretary.

[FR Doc. 01-22559 Filed 9-6-01; 8:45 am]

BILLING CODE 3510-DS-P